NUCLEAR REGULATORY COMMISSION

Notice of Public Meeting of the Interagency Steering Committee on Radiation Standards With the International Commission on Radiation Protection

AGENCIES: U.S. Nuclear Regulatory Commission and U.S. Environmental Protection Agency.

ACTION: Notice of public meeting.

SUMMARY: The U.S. Nuclear Regulatory Commission (NRC) will host a topical public meeting of the Interagency Steering Committee on Radiation Standards (ISCORS) with representatives from the International Commission on Radiation Protection (ICRP) on September 15, 2004, in Rockville, Maryland. The purpose of ISCORS is to foster early resolution and coordination of regulatory issues associated with radiation standards. Agencies represented as members of ISCORS include the following: NRC; U.S. Environmental Protection Agency; U.S. Department of Energy; U.S. Department of Defense; U.S. Department of Transportation; the Occupational Safety and Health Administration of the U.S. Department of Labor; U.S. Department of Homeland Security; and the U.S. Department of Health and Human Services. ISCORS meeting observer agencies include the Office of Science and Technology Policy, Office of Management and Budget, Defense Nuclear Facilities Safety Board, as well as representatives from both the States of Illinois and Pennsylvania.

The ICRP representatives, Dr. Roger Clarke, Chairman, and Dr. Lars-Erik Holm, Vice-Chairman, will be presenting the draft revision of the ICRP recommendations on radiation protection, currently available for public consultation at http://www.icrp.org. The objective of the meeting is to provide an opportunity for exchange of ideas and comments with the ICRP during the time the draft recommendations are available for public consultation. The tentative agenda includes an ICRP presentation followed by open, moderated discussion of the draft recommendations with attendees. There will be time on the agenda for members of the public to ask questions. The final agenda for the September 2004 meeting will be posted on the ISCORS Web site, http://www.iscors.org, shortly before the meeting. Space is limited and advanced registration is requested to assure attendance upon arrival. Attendees should plan to provide two forms of identification and arrive early in anticipation of security screening and related delays.

In the executive summary of the draft report, ICRP concluded that its recommendations should be based on a simple, but widely applicable, general system of protection that will clarify its objectives and will provide a basis for the more formal systems needed by operating managements and regulators. The report specifies that ICRP also recognizes the need for stability in regulatory systems at a time when there is no major problem identified with the practical use of the present system of protection in normal situations. The use of the optimization principle, together with the use of constraints and the current dose limits, has led to a general overall reduction in both occupational and public doses over the past decade. The ICRP now proposes to strengthen its recommendations by quantifying constraints for all controllable sources in all situations. Further, the system of protection now recommended by the ICRP is intended to be seen as a natural evolution of, and as a further clarification of, their 1990 Recommendations. Specifically, the draft report addresses the following areas: quantities used in radiation protection; biological aspects; the general attributes of the system of protection; levels of protection for individuals; optimization of protection; exclusion of sources; medical exposures; potential exposure; and protection of the environment.

DATES: The meeting will be held from 1 p.m. to 5 p.m. on Wednesday, September 15, 2004.

ADDRESSES: The meeting will be held in the ACRS hearing room, T2B3, at Two White Flint North, 11545 Rockville Pike, Rockville, Maryland 20852.

FOR FURTHER INFORMATION, CONTACT: Susanne Woods or Jennifer Davis, Office of Nuclear Material Safety and Safeguards, U.S. Nuclear Regulatory Commission, Washington, DC 20555, telephone (301) 415-7319; FAX (301) 415-5398; electronic mail to both SRW@NRC.GOV and BJD1@NRC.GOV.

SUPPLEMENTARY INFORMATION: Visitor parking around the NRC building is limited; however, the Two White Flint North building is located adjacent to the White Flint Metro Station on the Red Line.

Dated at Rockville, MD, this 11th day of August, 2004.
For the Nuclear Regulatory Commission.
Scott Flanders,
Deputy Director, Environmental and Performance Assessment Directorate, Division of Waste Management and Environmental Performance, Office of Nuclear Materials Safety and Safeguards.

[FR Doc. 04-18733 Filed 8-16-04; 8:45 am]

BILLING CODE 7590-01-P